DEPARTMENT OF COMMERCE

International Trade Administration

[A-337-806]

Individually Quick Frozen Red Raspberries From Chile; Extension of Time Limit for the Final Results of the Antidumping Duty Administrative Review

AGENCY: Import Administration, International Trade Administration, Department of Commerce.

ACTION: Notice of extension of time limit.

SUMMARY: The Department of Commerce is extending the time limit for the final results of the administrative review of the antidumping duty order on individually quick frozen red raspberries from Chile. The period of review is December 31, 2001, through June 30, 2003. This extension is made pursuant to section 751(a)(3)(A) of the Tariff Act of 1930, as amended by the Uruguay Round Agreements Act.

EFFECTIVE DATE: October 12, 2004.

FOR FURTHER INFORMATION CONTACT: Cole Kyle or Yasmin Bordas, Office 1, Import Administration, International Trade Administration, U.S. Department of Commerce, 14th Street and Constitution Avenue, NW., Washington DC 20230; at telephone (202) 482-1503 and (202) 482-3813, respectively.

Background

On August 6, 2004, the Department of Commerce (“the Department”) published the preliminary results of the administrative review of the antidumping duty order on individually quick frozen red raspberries from Chile covering the period December 31, 2001, through June 30, 2003 (69 FR 47869). The final results for the antidumping duty administrative review of individually quick frozen red raspberries from Chile are currently due no later than December 6, 2004.

Extension of Time Limits for Final Results

Section 751(a)(3)(A) of the Tariff Act of 1930, as amended by the Uruguay Round Agreements Act (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

The Department recently received case briefs from the parties involved in this administrative review. The written arguments submitted in the case briefs include complicated issues involving the Department's cost of production methodologies in this case. It is not practicable to complete this review within the originally anticipated time limit (i.e., by December 6, 2004), because we need additional time to analyze the written arguments. Therefore, the Department is extending the time limit for completion of the final results to no later than February 2, 2005, in accordance with section 751(a)(3)(A) of the Act.

We are issuing and publishing this notice in accordance with sections 751(a)(1) and 777(i)(1) of the Act.

Dated: October 5, 2004.
Jeffrey May,
Deputy Assistant Secretary for Import Administration.

[FR Doc. E4-2574 Filed 10-8-04; 8:45 am]

BILLING CODE 3510-DS-P